NATIONAL COUNCIL ON DISABILITY

Sunshine Act Meetings

Type: Quarterly Meeting.

Dates and Times:

July 14, 2008, 8:30 a.m.-4 p.m.;

July 15, 2008, 8:30 a.m.-5 p.m.;

July 16, 2008, 8:30 a.m.-4:15 p.m.

Location: Renaissance Seattle Hotel, 515 Madison Street, Seattle, WA.

Status:

July 14, 2008, 8:30 a.m.-4 p.m.—Open;

July 14, 2008, 4 p.m.-5 p.m.—Closed Executive Session;

July 15, 2008, 8:30 a.m.-5 p.m.—Open;

July 16, 2008, 8:30 a.m.-4:15 p.m.—Open.

Agenda: Public Comment Sessions; Emergency Preparedness Panel; Air Carrier Access Act Panel; Discussions on the Americans with Disabilities Act Amendments Act of 2008, and Employment; Reports from the Chairperson, Council Members, and the Executive Director; Unfinished Business; New Business; Announcements; Adjournment.

Sunshine Act Meeting Contact: Mark S. Quigley, Director of External Affairs, NCD, 1331 F Street, NW., Suite 850, Washington, DC 20004; 202-272-2004 (voice), 202-272-2074 (TTY), 202-272-2022 (fax)

Agency Mission: NCD is an independent federal agency and is composed of 15 members appointed by the President, by and with the advice and consent of the Senate. NCD provides advice to the President, Congress, and executive branch agencies promoting policies, programs, practices, and procedures that (A) guarantee equal opportunity for all individuals with disabilities, regardless of the nature or severity of the disability; and (B) to empower individuals with disabilities to achieve economic self-sufficiency, independent living, and inclusion and integration into all aspects of society.

Accommodations: Those needing reasonable accommodations should notify NCD immediately.

Language Translation: In accordance with E.O. 13166, Improving Access to Services for Persons with Limited English Proficiency, those people with disabilities who are limited English proficient and seek translation services for this meeting should notify NCD immediately.

Dated: June 26, 2008.
Michael C. Collins,
Executive Director.

[FR Doc. 08-1407 Filed 6-30-08; 12:45 pm]

BILLING CODE 6820-MA-P